DEPARTMENT OF TRANSPORTATION

Federal Aviation Administration

Intent To Rule on Request To Release Airport Property at the El Paso International Airport, El Paso, TX

AGENCY: Federal Aviation Administration (FAA), DOT.

ACTION: Notice of request to release airport property.

SUMMARY: The FAA proposes to rule and invite public comment on the release of land at the El Paso International Airport.

DATES: Comments must be received on or before October 5, 2012.

ADDRESSES: Comments on this application may be mailed or delivered to the FAA at the following address: Mr. Mike Nicely, Manager, Federal Aviation Administration, Southwest Region, Airports Division, Texas Airports Development Office, ASW-650, Fort Worth, Texas 76137-0650.

In addition, one copy of any comments submitted to the FAA must mailed or delivered to the FAA at the following: Ms. Monica Lombraña, Director of Aviation, El Paso International Airport, 6701 Convair Rd., EI Paso, Texas 79925-1091.

FOR FURTHER INFORMATION CONTACT: Mr. Guillermo Y. Villalobos, Program Manager, Federal Aviation Administration, Texas Airports Development Office, ASW-650, 2601 Meacham Boulevard, Fort Worth, Texas 76137, Telephone: (817) 222-5657, Email: Guillermo.Villalobos@faa.gov, Fax: (817) 222-5989.

The request to release property may be reviewed in person at this same location.

SUPPLEMENTARY INFORMATION: The FAA invites public comment on the request to release property at El Paso International Airport under the provisions of Title 49, U.S.C. Section 47107(h).

The following is a brief overview of the request:

The El Paso International Airport request the release of 3.881 acres of airport property. The release of property will allow for continued use of the property as a pool and park. The sale is estimated to provide $155,000.00.

Any person may inspect the request in person at the FAA office listed above under FOR FURTHER INFORMATION CONTACT.

In addition, any person may, upon request, inspect the application, notice and other documents relevant to the application in person at: The El Paso International Airport, Telephone: (915) 780-4793.

Issued in Fort Worth, Texas on August 21, 2012.
Kelvin L. Solco,
Airports Division.

[FR Doc. 2012-21146 Filed 9-4-12; 8:45 am]

BILLING CODE P